DEPARTMENT OF HOMELAND SECURITY

Coast Guard

[Docket No. USCG-2013-0068]

Towing Safety Advisory Committee; Vacancies

AGENCY: United States Coast Guard.

ACTION: Request for applications.

SUMMARY: The United States Coast Guard (the Coast Guard) is requesting applications from qualified candidates seeking consideration for appointment as public members to the Towing Safety Advisory Committee (TSAC). TSAC advises the Coast Guard on matters relating to shallow-draft inland and coastal waterway navigation and towing safety.

DATES: Applications for TSAC membership must include a cover letter and resume. Note that all materials must be received on or before May 20, 2013.

ADDRESSES: Send your cover letter and resume via one of the following methods:

• By mail: Alternate Designated Federal Official (ADFO) of TSAC, Commandant, (CG-OES-2)/TSAC U.S. Coast Guard, 2100 Second St. SW., STOP 7126, Washington, DC 20593-7126;

• By fax to 202-372-1926; or

• By email to William.J.Abernathy@uscg.mil.

FOR FURTHER INFORMATION CONTACT: CDR Rob Smith, Designated Federal Official (DFO) of TSAC; telephone 202-372-1410; fax 202-372-1926; or email at Robert.L.Smith@uscg.mil.

SUPPLEMENTARY INFORMATION: TSAC is governed by the Federal Advisory Committee Act (FACA), 5 U.S.C. App. (Pub. L. 92-463) and was originally established in the Department of Transportation (Pub. L. 96-380, which was most recently amended by section 621 of the Coast Guard Authorization Act of 2010, Pub. L. 111-281). The Committee advises the Secretary of the Department of Homeland Security (DHS) on matters relating to shallow-draft inland and coastal waterway navigation and towing safety. This advice also assists the Coast Guard in formulating the position of the United States regarding the towing industry in advance of International Maritime Organization meetings.

The Committee meets at least twice a year either in the Washington DC area or in cities with large towing centers of commerce and populated by high concentrations of towing industry and related businesses. It may also meet for extraordinary purposes. Subcommittees may conduct intercessional telephonic meetings when necessary for specific tasking. The 18 members include:

• Seven members representing the Barge and Towing industry, reflecting a regional geographical balance.

• One member representing the offshore mineral and oil supply vessel industry.

• One member representing holders of active licensed Masters or Pilots of towing vessels with experience on the Western Rivers and the Gulf Intracoastal Waterway.

• One member representing the holders of active licensed Masters of towing vessels in offshore service.

• One member representing Masters who are active ship-docking or harbor towing vessels.

• One member representing licensed or unlicensed towing vessel engineers with formal training and experience.

• Two members representing Port districts, port authorities or terminal operators.

• Two members representing Shippers (of whom one must be engaged in the shipment of oil or hazardous materials by barge).

• Two members drawn from the General Public.

The Coast Guard is currently considering applications for six (6) positions that will become vacant on September 30, 2013:

• Three representatives from the Barge and Towing industry.

• One representative from port districts, port authorities or terminal operators.

• One person representing licensed or unlicensed towing engineers with formal training and experience.

• One person representing shippers.

To be eligible, applicants should have expertise, knowledge, and experience relative to the position in the towing industry, marine transportation, or business operations associated with shallow-draft inland and coastal waterway navigation and towing safety. Registered lobbyists are not eligible to serve on Federal advisory committees. Registered lobbyists are lobbyists required to comply with provisions contained in the Lobbying Disclosure Act of 1995 (Pub. L. 104-65, as amended by Title II of Pub. L. 110-81). Each member serves for a term up to three (3) years. Members may be considered to serve consecutive terms. All members serve at their own expense and receive no salary, or other compensation from the Federal Government.

DHS does not discriminate in employment on the basis of race, color, religion, sex, national origin, political affiliation, sexual orientation, gender identity, marital status, disabilities and genetic information, age, membership in an employee organization, or any other non-merit factor.

If you are interested in applying to become a member of the Committee, submit your application materials indicating the position you wish to fill; specify your area of expertise, knowledge and experience that qualify you for service on TSAC; and submit your complete package to ADFO William J. Abernathy via one of the transmittal methods provided above. Note that during the pre-selection vetting process, applicants may be asked to provide their date of birth and social security number.

To visit our online docket, go to https://www.regulations.gov. enter the docket number (USCG-2013-0068) in the Search box, and click “Search”. Please do not post your resume on this site.

Dated: April 1, 2013.
J.G. Lantz,
Director of Commercial Regulations and Standards.

[FR Doc. 2013-07902 Filed 4-4-13; 8:45 am]

BILLING CODE 9110-04-P